NATIONAL COUNCIL ON DISABILITY

Sunshine Act Meetings (Teleconference)

Time and Date: 2 p.m., June 7, 2004.

Place: National Council on Disability, 1331 F Street, NW., Suite 850, Washington, DC.

Status: This meeting (teleconference) will be open to the public.

Matters to be Considered: Priorities for NCD's FY2006 Budget Request. In calling the meeting, NCD determined that NCD business required its consideration of the agenda items on less than seven days' notice to the public; that no earlier notice of the meeting was practicable; and that the involved matters are primarily predecisional information gathering activity.

FOR FURTHER INFORMATION CONTACT: Mark S. Quigley, Director of Communications, National Council on Disability, 1331 F Street, NW., Suite 850, Washington, DC 20004; 202-272-2004 (Voice), 202-272-2074 (TTY), 202-272-2022 (Fax), mquigley@ncd.gov (E-mail).

Agency Mission: The National Council on Disability (NCD) is an independent federal agency composed of 15 members appointed by the President and confirmed by the U.S. Senate. Its overall purpose is to promote policies, programs, practices, and procedures that guarantee equal opportunity for all people with disabilities, including people from culturally diverse backgrounds, regardless of the nature or significance of the disability; and to empower people with disabilities to achieve economic self-sufficiency, independent living, and inclusion and integration into all aspects of society.

Accommodations: Those needing sign language interpreters or other disability accommodations should notify NCD before this meeting.

Language Translation: In accordance with E.O. 13166, Improving Access to Services for Persons with Limited English Proficiency, those people with disabilities who are limited English proficient and seek translation services for this meeting should notify NCD before this meeting.

Dated: June 2, 2004.
Ethel D. Briggs,
Executive Director.

[FR Doc. 04-12851 Filed 6-2-04; 4:33 pm]

BILLING CODE 6820-MA-P